DEPARTMENT OF HOMELAND SECURITY

Coast Guard

33 CFR Part 151

[USCG-2006-26136]

Potential Revision of Mandatory Ballast Water Management Reporting Requirements

AGENCY: Coast Guard, DHS.

ACTION: Notice; request for public comments.

SUMMARY: The Coast Guard requests public comments on our current ballast water management reporting and recordkeeping requirements. To provide additional opportunity for public comment, public meetings will be held in the Great Lakes and Gulf of Mexico regions. All stakeholders and interested parties are encouraged to submit comments to the docket and to attend a public meeting in or near their region.

DATES: Comments and related material must reach the Docket Management Facility on or before March 16, 2007.

ADDRESSES: You may submit comments identified by Coast Guard docket number USCG-2006-26136 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, contact LT Heather St. Pierre, Project Manager, Environmental Standards Division, Coast Guard, via telephone at 202-372-1432 or via e-mail at Heather.J.St.Pierre@uscg.mil. If you have questions on viewing or submitting material to the docket, call Renee V. Wright, Program Manager, Docket Operations, telephone 202-493-0402.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-26136) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this notice, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

In accordance with the Nonindigenous Aquatic Nuisance Prevention and Control Act of 1990 (as reauthorized and amended by the National Invasive Species Act of 1996 (NISA)), the Coast Guard promulgated ballast water management (BWM) regulations in 33 CFR part 151, subparts C and D. As part of NISA, Congress authorized the Coast Guard to require BWM reporting and recordkeeping so that we can monitor discharge trends and practices as well as monitor compliance with BWM regulations.

Subpart C of 33 CFR part 151 applies to vessels carrying ballast water after operating outside of the U.S. Exclusive Economic Zone (EEZ) that enter the Snell Lock at Massena, New York, or vessels that navigate north of the George Washington Bridge on the Hudson River. In accordance with 33 CFR 151.1516 and 151.2041(b)(1)-(2), vessels entering the Great Lakes or Hudson River, north of the George Washington Bridge, must submit BWM reports at least 24 hours prior to arrival.

The regulations in subpart D apply to all vessels, foreign and domestic, equipped with ballast tanks that operate in U.S. waters and are bound for U.S. ports or places. 33 CFR 151.2041 contains specific BWM reporting requirements. To accompany these regulations, we also published Navigation and Vessel Inspection Circular (NVIC) 07-04, entitled “Ballast Water Management for the Control of Aquatic Nuisance Species in the Waters of the United States” and change 1 to this guidance document. NVIC 07-04 also provides additional guidance on the equivalent reporting program for vessels operating exclusively within the EEZ (as established in 33 CFR 151.2043), allowing approved vessels to submit reports on a monthly basis, as opposed to the standard schedule required by 33 CFR 151.2041.

These BWM reporting requirements are currently being reviewed for potential revisions. In this review process, the Coast Guard is interested in receiving comments on current reporting and recordkeeping requirements contained in the mandatory BWM regulations in 33 CFR part 151, subparts C and D. Specifically, the Coast Guard is seeking public comments on the current ballast water management reporting submission requirements, including comments on vessel types currently required to submit ballast water management reporting forms. Also, the Coast Guard is seeking comments on the ballast water reporting form itself to determine whether or not the form should be updated. Comments submitted to the docket may or may not be used to amend these ballast water management reporting requirements.

The Coast Guard plans to hold two public meetings associated with this notice to provide additional opportunities for public comment. These meetings are planned to be held during the week of March 12, 2007; one meeting will be held in the Great Lakes region and the other in the Gulf of Mexico. Specific information on these meetings will be published in the Federal Register as a separate follow-on notice. All stakeholders and interested parties are encouraged to submit comments to the docket and to attend a public meeting in or near their region.

Dated: November 3, 2006.
J.G. Lantz,
Director of National and International Standards, Assistant Commandant for Prevention, U.S. Coast Guard.

[FR Doc. E6-18903 Filed 11-7-06; 8:45 am]

BILLING CODE 4910-15-P